DEPARTMENT OF DEFENSE

Department of the Air Force

U.S. Air Force Scientific Advisory Board; Notice of Federal Advisory Committee Meeting

AGENCY: U.S. Air Force Scientific Advisory Board, Department of the Air Force, Department of Defense.

ACTION: Notice of Federal Advisory Committee meeting.

SUMMARY: The Department of Defense (DoD) is publishing this notice to announce that the following Federal Advisory Committee meeting of the U.S. Air Force Scientific Advisory Board will take place.

DATES: Closed to the public Thursday April 11, 2019 from 1:15 p.m. to 3:30 p.m. Mountain Standard Time. Due to circumstances beyond the control of the Department of Defense (DoD) and the Designated Federal Officer, the U.S. Air Force Scientific Advisory Board was unable to provide public notification required by 41 CFR 102-3.150(a) concerning its April 11, 2019 meeting of the U.S. Air Force Scientific Advisory Board. Accordingly, the Advisory Committee Management Officer for the Department of Defense, pursuant to 41 CFR 102.3-150(b), waives the 15-calendar day notification requirement.

ADDRESSES: The address of the closed meeting is the Auditorium of Bldg 1575, located at 6006 Wardleigh Rd, Hill AFB, UT 80456.

FOR FURTHER INFORMATION CONTACT: Evan Buschmann, (240) 612-5503 (Voice), 703-693-5643 (Facsimile), evan.g.buschmann.civ@us.af.mil (Email). Mailing address is 1500 West Perimeter Road, Ste. #3300, Joint Base Andrews, MD 20762. Website: http://www.sab.af.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of this Air Force Scientific Advisory Board quarterly meeting is to conduct mid-term reviews of the Scientific Advisory Board's FY19 studies, offering board members the opportunity to hear directly from the Study Chairs on the progress they have made thus far and provide dedicated time to continue collaboration on research.

Agenda: 1315-1330 FY19 Study Remarks, Dr. James Chow, Chair, U.S. Air Force Scientific Advisory Board 1330-1400 Multi-Source Data Fusion for Target Location and Identification (DFT)—Midterm Outbrief, Dr. Patrick Stadter, Study Chair 1400-1430 Fidelity of Modeling, Simulation, and Analysis to Support Air Force Decision Making (MSA)—Midterm Outbrief, Mr. Darcy McGinn, Study Chair 1430-1445 Coffee Break 1445—1515 21st Century Training and Education Technologies (TET)—Midterm Outbrief, Dr. Mica Endsley-Jones, Study Chair 1515-1530 Closing Remarks, Dr. James Chow, Chair, U.S. Air Force Scientific Advisory Board.

Meeting Accessibility:

Written Statements: Any member of the public that wishes to provide input on the Air Force Scientific Advisory Board Spring Meeting must contact the meeting organizer at the phone number or email address listed in this announcement at least five working days prior to the meeting date. Please ensure that you submit your written statement in accordance with 41 CFR 102-3.140(c) and section 10(a)(3) of the Federal Advisory Committee Act. Statements being submitted in response to the agenda mentioned in this notice must be received by the Scientific Advisory Board meeting organizer at least five calendar days prior to the meeting commencement date. The Scientific Advisory Board meeting organizer will review all timely submissions and respond to them prior to the start of the meeting identified in this notice. Written statements received after this date may not be considered by the Scientific Advisory Board until the next scheduled meeting.

Carlinda N. Lotson,
Acting Federal Register Liaison Officer, Department of Defense.

[FR Doc. 2019-06167 Filed 3-29-19; 8:45 am]

BILLING CODE 5001-10-P